DEPARTMENT OF JUSTICE

Antitrust Division

Notice Pursuant to the National Cooperative Research and Production Act of 1993—Sematech, Inc. d/b/a International Sematech

Notice is hereby given that, on August 20, 2013, pursuant to Section 6(a) of the National Cooperative Research and Production Act of 1993, 15 U.S.C. 4301 et seq. (“the Act”), Sematech, Inc. d/b/a International Sematech (“SEMATECH”) has filed written notifications simultaneously with the Attorney General and the Federal Trade Commission disclosing changes in its membership. The notifications were filed for the purpose of extending the Act's provisions limiting the recovery of antitrust plaintiffs to actual damages under specified circumstances. Specifically, Cimetrix, Inc., Hingham, MA; Toray Industries, New York, NY; Silvaco, Inc., Santa Clara, CA; Qcept Technologies, Atlanta, GA; DISCO Corporation, Tokyo, JAPAN; and ACM Research, Inc., Fremont, CA, have been added as parties to this venture.

Also, Micron Technologies, Boise, ID, has withdrawn as a party to this venture.

No other changes have been made in either the membership or planned activity of the group research project. Membership in this group research project remains open, and SEMATECH intends to file additional written notifications disclosing all changes in membership.

On April 22, 1988, SEMATECH filed its original notification pursuant to Section 6(a) of the Act. The Department of Justice published a notice in the Federal Register pursuant to Section 6(b) of the Act on May 19, 1988 (53 FR 17987).

The last notification was filed with the Department on May 21, 2013. A notice was published in the Federal Register pursuant to Section 6(b) of the Act on June 21, 2013 (78 FR 37572).

Patricia A. Brink,
Director of Civil Enforcement, Antitrust Division.

[FR Doc. 2013-23197 Filed 9-23-13; 8:45 am]

BILLING CODE 4410-11-P